DEPARTMENT OF ENERGY

Federal Energy Regulatory Commission

[Project No. 2685-029]

New York Power Authority; Notice of Settlement Agreement, Soliciting Comments, and Modification of Procedural Schedule

Take notice that the following settlement agreement has been filed with the Commission and is available for public inspection.

a. Type of Application: Settlement Agreement.

b. Project No.: 2685-029.

c. Date filed: February 23, 2018.

d. Applicant: New York Power Authority (NYPA).

e. Name of Project: Blenheim-Gilboa Pumped Storage Project.

f. Location: On Schoharie Creek, in the Towns of Blenheim and Gilboa in Schoharie County, New York. The project does not occupy any federal lands.

g. Filed Pursuant to: Rule 602 of the Commission's Rules of Practice and Procedure, 18 CFR 385.602.

h. Applicant Contact: Mr. Robert Daly, Licensing Manager, New York Power Authority 123 Main Street, White Plains, New York 10601. Telephone: (914) 681-6564, Email: Rob.Daly@nypa.gov.

i. FERC Contact: Andy Bernick, (202) 502-8660 or andrew.bernick@ferc.gov.

j. Deadline for filing comments: Comments on the Settlement Agreement, and comments, recommendations, preliminary terms and conditions, and preliminary fishway prescriptions in response to the Commission's January 4, 2018 Notice of Application Ready for Environmental Analysis (REA Notice) are due within 20 days of this notice. Reply comments are due within 65 days of this notice.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2685-029.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. NYPA filed a Comprehensive Relicensing Settlement Agreement (Settlement Agreement) on behalf of itself, the United States Fish and Wildlife Service, the New York State Department of Environmental Conservation, and the New York State Office of Parks, Recreation and Historic Preservation. The purpose of the Settlement Agreement is to resolve among the signatories all issues associated with issuance of a new license for the project, and provides plans regarding the management of water, lands, recreation, and historic properties, and ecological enhancement associated with the project. NYPA requests that the Commission approve the Settlement Agreement by including in any new license issued for the project, without modification, the proposed license articles provided in Appendix A of the Settlement Agreement, and by reference, five management plans provided in Appendix B. The signatories to the Settlement Agreement also request a 50-year license term for the project.

l. A copy of the Settlement Agreement is available for review at the Commission in the Public Reference Room or may be viewed on the Commission's website at http://www.ferc.gov using the “eLibrary” link. Enter the docket number excluding the last three digits in the docket number field to access the document. For assistance, contact FERC Online Support. Copies of the Settlement Agreement are also available for inspection and reproduction at the address in item h above.

All filings must (1) bear in all capital letters the title “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

Register online at http://www.ferc.gov/docs-filing/esubscription.asp to be notified via email of new filings and issuances related to this or other pending projects. For assistance, contact FERC Online Support.

m. Procedural Schedule:

The Commission's January 4, 2018, REA Notice established March 5, 2018 as the deadline for filing comments, recommendations, preliminary terms and conditions, and preliminary fishway prescriptions regarding NYPA's license application. In order to allow adequate time for stakeholder comments regarding the license application and the Settlement Agreement, we have modified the comment period to allow stakeholders to submit comments on the Settlement Agreement and comments, recommendations, preliminary terms and conditions, and preliminary fishway prescriptions regarding the license application on the same date, and allow NYPA sufficient time to submit reply comments. The application will be processed according to the following revised Hydro Licensing Schedule. Revisions to the schedule may be made as appropriate. If the due date falls on a weekend or holiday, the due date is the following business day.

Milestone | Target date
Filing of comments, recommendations, preliminary terms and conditions, and preliminary fishway prescriptions (per the REA Notice) and comments on the Settlement Agreement | March 21, 2018.
Reply comments due | May 5, 2018.
Commission Issues Draft EA | September 1, 2018.
Comments on Draft EA | October 1, 2018.
Modified terms and conditions due | November 30, 2018.
Commission issues Final EA | February 28, 2019.

Dated: March 1, 2018.
Kimberly D. Bose,
Secretary.

[FR Doc. 2018-04601 Filed 3-6-18; 8:45 am]

BILLING CODE 6717-01-P